DEPARTMENT OF TRANSPORTATION

Federal Aviation Administration

14 CFR Part 71

[Docket No. FAA-2003-15721; Airspace Docket No. 03-ACE-63]

Modification of Class E Airspace; Sullivan, MO

AGENCY: Federal Aviation Administration (FAA), DOT.

ACTION: Direct final rule; request for comments; correction.

SUMMARY: This action corrects a direct final rule; request for comments that was published in the Federal Register on Monday, August 18, 2003, (68 FR 49348) [FR Doc. 03-21081.]. It corrects an error in the Sullivan Regional Airport airport reference point used in the Sullivan, MO Class E airspace area legal description.

DATES: This direct final rule is effective on 0901 UTC, December 25, 2003.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 03-21081, published on Monday, August 18, 2003 (68 FR 49348) modified Class E airspace at Sullivan, MO. The modification was to correct a discrepancy in the Sullivan Regional Airport airport reference point used in the Sullivan, MO Class E airspace area and to bring the legal description into compliance with FAA Order 7400.2E, Procedures for Handling Airspace Matters. However, the revised Sullivan Regional Airport airport reference point was published incorrectly.

Accordingly, pursuant to the authority delegated to me, the Sullivan, MO Class E airspace, as published in the Federal Register on Monday, August 18, 2003, (68 FR 49348), [FR Doc. 03-21081] is corrected as follows:

§ 71.1 [Corrected]

On page 49349, Column 1, paragraph headed “ACE MO E5 Sullivan, MO,” second line, change “long. 92°09′51” to read “long. 91°09′51.”

Issued in Kansas City, MO on August 20, 2003.
David H. Hope,
Acting Manager, Air Traffic Division, Central Region.

[FR Doc. 03-22466 Filed 9-3-03; 8:45 am]

BILLING CODE 4910-13-M